SMALL BUSINESS ADMINISTRATION

[Disaster Declaration #15742 and #15743; FLORIDA Disaster Number FL-00140]

Presidential Declaration of a Major Disaster for the State of Florida

AGENCY: U.S. Small Business Administration.

ACTION: Notice.

SUMMARY: This is a Notice of the Presidential declaration of a major disaster for the State of Florida (FEMA-4399-DR), dated 10/11/2018.

Incident: Hurricane Michael.

Incident Period: 10/07/2018 and continuing.

DATES: Issued on 10/11/2018.

Physical Loan Application Deadline Date: 12/10/2018.

Economic Injury (EIDL) Loan Application Deadline Date: 07/11/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 10/11/2018, applications for disaster loans may be filed at the address listed above or other locally announced locations. The following areas have been determined to be adversely affected by the disaster:

Primary Counties (Physical Damage and Economic Injury Loans): Bay, Franklin, Gulf, Taylor, Wakulla.

Contiguous Counties (Economic Injury Loans Only):

Florida: Calhoun, Dixie, Jackson, Jefferson, Lafayette, Leon, Liberty, Madison, Walton, Washington.

The Interest Rates are:

| Percent
For Physical Damage:
Homeowners with Credit Available Elsewhere | 4.000
Homeowners without Credit Available Elsewhere | 2.000
Businesses with Credit Available Elsewhere | 7.350
Businesses without Credit Available Elsewhere | 3.675
Non-Profit Organizations with Credit Available Elsewhere | 2.500
Non-Profit Organizations without Credit Available Elsewhere | 2.500
For Economic Injury:
Businesses & Small Agricultural Cooperatives without Credit Available Elsewhere | 3.675
Non-Profit Organizations without Credit Available Elsewhere | 2.500

The number assigned to this disaster for physical damage is 157428 and for economic injury is 157430.

(Catalog of Federal Domestic Assistance Number 59008)

James Rivera,
Associate Administrator for Disaster Assistance.

[FR Doc. 2018-22846 Filed 10-18-18; 8:45 am]

BILLING CODE 8025-01-P